DEPARTMENT OF DEFENSE

Office of the Secretary

[Docket No. DoD-2007-DARS-0115]

Submission for OMB Review; Comment Request

ACTION: Notice.

The Department of Defense has submitted to OMB for clearance, the following proposal for collection of information under the provisions of the Paperwork Reduction Act (44 U.S.C. Chapter 35).

DATES: Consideration will be given to all comments received November 28, 2007.

Title and OMB Number: Defense Federal Acquisition Regulation Supplement (DFARS) Part 223, Occupational Safety and Drug-Free Workplace, and related clauses at DFARS 252.223; OMB Control Number 0704-0272.

DoD is combining reporting and recordkeeping requirements previously approved under both 0704-0336 and 0704-0272 under this revision to 0704-0272.

Type of Request: Revision.

Number of Respondents: 19,531 (1,519 reporting/18,012 recordkeeping).

Responses per Respondent: 1.6138 average (8.892 reporting/1 recordkeeping).

Annual Responses: 31,519 (13,507 reporting/18,012 recordkeeping).

Average Burden per Response: 31.39515 hrs average (0.6995 hrs reporting/54.4135 hrs recordkeeping).

Annual Burden Hours: 989,544 (9,448 reporting/980,096 recordkeeping).

Needs and Uses: This information collection requires that an offeror or contractor submit information to DoD in response to DFARS solicitation provisions and contract clauses relating to occupational safety. DoD contracting officers use this information to:

Verify compliance with requirements for labeling of hazardous materials;

Ensure contractor compliance and monitor subcontractor compliance with DoD 4145.26-M, DoD Contractors' Safety Manual for Ammunition and Explosives, and minimize risk of mishaps;

Identify the place of performance of all ammunition and explosives work; and

Ensure contractor compliance and monitor subcontractor compliance with DoD 5100.76-M, Physical Security of Sensitive Conventional Arms, Ammunition, and Explosives.

In addition, this information collection requires DoD contractors to maintain records regarding drug-free work force programs provided for contractor employees. The information is used to ensure reasonable efforts to eliminate the unlawful use of controlled substances by contractor employees.

Affected Public: Business or other for-profit; not-for-profit institutions.

Frequency: On occasion.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

You may also submit comments, identified by docket number and title, by the following method:

• Federal eRulemaking Portal: http://www.regulations.gov. Following the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: October 22, 2007.
Patricia L. Toppings,
Alternate OSD Federal Register, Liaison Officer, Department of Defense.

[FR Doc. 07-5341 Filed 10-26-07; 8:45 am]

BILLING CODE 5001-06-M